ENVIRONMENTAL PROTECTION AGENCY

[ER-FRL-6614-7]

Environmental Impact Statements; Notice of Availability

Responsible Agency:

Office of Federal Activities, General Information (202) 564-7167 or www.epa.gov/oeca/ofa

Weekly receipt of Environmental Impact Statements

Filed January 8, 2001 Through January 12, 2001

Pursuant to 40 CFR 1506.9.

EIS No. 010008, Final EIS, AFS, ID, East Beaver and Miner's Creek Timber Sales and Prescribed Burning Project, Implementation, Caribou-Targhee National Forest, Dubois Ranger District, Clark County, ID, Due: February 20, 2001, Contact: John Councilman (208) 558-7301.

EIS No. 010009, Final EIS, AFS, WY, Squirrel Meadows—Grand Targhee Land Exchange Proposal, Implementation, Targhee National Forest, Teton County, WY, Due: February 20, 2001, Contact: Patty Bates (208) 354-2312.

EIS No. 010010, Final EIS, FHW, LA, North-South Expressway Const. I-220 in Shreveport, LA to the Arkansas State Line, Funding and COE Section 404 Permit Issuance, Caddo Parish, LA, Due: February 20, 2001, Contact: William C. Farr (225) 757-7615.

EIS No. 010011, Final EIS, FHW, NY, Miller Highway Project (P.I.N. 103.27), Relocation of Miller Highway between West 59th Street to West 72nd Streets, on the Upper West Side of Manhattan, Funding and COE Section 404 Permit, New York County, NY, Due: February 20, 2001, Contact: Harold Brown (518) 431-4127.

EIS No. 010012, Final EIS, FHW, NV, AZ, US 93 Hoover Dam Bypass Project, Construction of a New Bridge and Highway, Funding, Right-of-Way Easement, U.S. Coast Guard, NPDES and COE Section 404 Permits, Federal Lands—Lake Mead National Recreation Area and Hoover Dam Reservation, Clark County, NV and Mohave County, AZ, Due: February 20, 2001, Contact: Dave Zanetell (303) 716-2167.

EIS No. 010013, Draft EIS, AFS, AK, Threemile Timber Sale, Implementation, Petersburg Ranger District, Tongass National Forest, AK, Due: March 12, 2001, Contact: Everett Kissinger (907) 772-5860.

EIS No. 010014, Draft EIS, AFS, AK, Gravina Island Timber Sale, Implementation, Timber Harvest and Related Activities, Ketchikan-Misty Fiords Ranger District, Tongass National Forest, AK, Due: March 5, 2001, Contact: Susan Marthaller (907) 225-2148.

EIS No. 010015, Draft EIS, BLM, CO, NM, Programmatic EIS—Southern Ute Indian Reservation Oil and Gas Development, Implementation, San Juan Basin, LaPlata, Archuleta, Montezuma Counties, CO and Rio Arriba and San Juan Counties, NM, Due: March 20, 2001, Contact: Don Englishman (970) 385-1346.

EIS No. 010016, Final EIS, AFS, OR, Triangle Land Exchange Project, Between Clearwater Land Exchange Oregon (Clearwater) an Oregon Partnership, Implementation, Malheur, Umatilla and Wallowa-Whitman National Forests, Baker, Grant, Harney and Wallowa Counties, OR, Due: February 20, 2001, Contact: John Day (541) 575-3000.

EIS No. 010017, Final EIS, NPS, CA, NV, Legislative EIS—Timbisha Shoshone Tribal Homeland, To Establish a Permanent Tribal Land Base and Related Cooperative Activities, The Transfer of Federal Land and Acquisition of Private Land, Death Valley National Park, Saline Valley, CA and Lida Ranch near Lida, NV, Due: February 20, 2001, Contact: Joan DeGraff (760) 255-8830.

EIS No. 010018, Draft EIS, FHW, OK, I-40 Crosstown Expressway Transportation Improvements, From I-235/I-35 Interchange West to Meridan Avenue, Funding, Oklahoma City, OK, Due: March 15, 2001, Contact: Lubin Quinones (405) 605-6011.

Dated: January 16, 2001.
Joseph C. Montgomery,
Director, NEPA Compliance Division, Office of Federal Activities.

[FR Doc. 01-1689 Filed 1-18-01; 8:45 am]

BILLING CODE 6560-50-U